DEPARTMENT OF TRANSPORTATION

Federal Aviation Administration

14 CFR Part 39

[Docket No. FAA-2010-0476; Directorate Identifier 2010-NM-036-AD; Amendment 39-16298; AD 2010-10-19]

RIN 2120-AA64

Airworthiness Directives; Airbus Model A340-200 and A340-300 Series Airplanes

AGENCY: Federal Aviation Administration (FAA), Department of Transportation (DOT).

ACTION: Final rule; request for comments.

SUMMARY: We are adopting a new airworthiness directive (AD) for the products listed above that supersedes an existing AD. This AD results from mandatory continuing airworthiness information (MCAI) originated by an aviation authority of another country to identify and correct an unsafe condition on an aviation product. The MCAI describes the unsafe condition as:

* * * * *

Engineering analysis using the new calculated loads has shown that the structural integrity of the forward engine mount cannot be guaranteed after either thrust link has accumulated 15500 Flight Cycles (FC).

* * * * *

A loss of structural integrity of the forward engine mounts could lead to the loss of the load path for the forward engine mount and damage to other engine mount structures, which could result in failure of the forward engine mount, possible separation of the engine from the airplane, damage to the wing, or loss of control of the airplane. This AD requires actions that are intended to address the unsafe condition described in the MCAI.

DATES: This AD becomes effective May 28, 2010.

On January 29, 2010 (75 FR 2057, January 14, 2010), the Director of the Federal Register approved the incorporation by reference of a certain publication listed in this AD.

We must receive comments on this AD by June 28, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, International Branch, ANM-116, Transport Airplane Directorate, FAA, 1601 Lind Avenue, SW., Renton, Washington 98057-3356; telephone (425) 227-1138; fax (425) 227-1149.

SUPPLEMENTARY INFORMATION:

Discussion

On December 30, 2009, we issued AD 2010-02-03, Amendment 39-16174 (75 FR 2057, January 14, 2010). That AD required actions intended to address an unsafe condition on the products listed above.

Since we issued AD 2010-02-03, Airbus requested that we clarify the compliance time for airplanes with thrust links for which the part history is partial or unknown as specified in paragraph (g)(1)(ii) of the original AD. Airbus notes that Airbus Mandatory Service Bulletin A340-71-4006, Revision 01, dated May 14, 2009, calculates the limits using flight cycles. We have revised paragraph (g)(1)(ii) of this AD to refer to a compliance time specified in flight cycles accordingly.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2010-0476; Directorate Identifier 2010-NM-036-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16174 (75 FR 2057, January 14, 2010) and adding the following new AD:

2010-10-19 Airbus: Amendment 39-16298. Docket No. FAA-2010-0476, Directorate Identifier 2010-NM-036-AD.

Effective Date

(a) This airworthiness directive (AD) becomes effective May 28, 2010.

Affected ADs

(b) This AD supersedes AD 2010-02-03, Amendment 39-16174.

Applicability

(c) This AD applies to Airbus Model A340-211, -212, -213, -311, -312, and -313 airplanes, all manufacturer serial numbers; certificated in any category.

Subject

(d) Air Transport Association (ATA) of America Code 71: Powerplant.

Reason

(e) The mandatory continued airworthiness information (MCAI) states:

“A recent review of the A340-200/300 fleet has shown that the current utilization rate of the aeroplanes is different from the assumptions used at the time of A340 initial certification. New calculations have been performed taking into account an updated mission profile to determine the impact to the loads on the forward engine mount.

Engineering analysis using the new calculated loads has shown that the structural integrity of the forward engine mount cannot be guaranteed after either thrust link has accumulated 15500 Flight Cycles (FC).

Consequently, this AD introduces a Limit Of Validity (LOV) of 15 500 FC for CFM 56-5C forward engine mount thrust links Part Number (P/N) 340-7005-3 and P/N 340-7005-4.

In addition, this AD requires establishing the deadline for replacement of forward engine mount thrust link assemblies, to trace the life of these assemblies and to replace them no later than the calculated deadline.”

A loss of structural integrity of the forward engine mounts could lead to the loss of the load path for the forward engine mount and damage to other engine mount structures, which could result in failure of the forward engine mount, possible separation of the engine from the airplane, damage to the wing, or loss of control of the airplane.

Compliance

(f) You are responsible for having the actions required by this AD performed within the compliance times specified, unless the actions have already been done.

Actions

(g) Do the following actions.

(1) At the applicable time specified in paragraph (g)(1)(i) or (g)(1)(ii) of this AD: Calculate the flight cycles, as applicable, and replace all CFM 56-5C forward engine mount thrust links P/N 340-7005-3 or P/N 340-7005-4, in accordance with the Accomplishment Instructions of Airbus Mandatory Service Bulletin A340-71-4006, Revision 01, dated May 14, 2009.

Note 1: P/N 340-7005-3 and P/N 340-7005-4 are the part numbers for only the link. P/N 340-7005-503 and P/N 340-7005-504 are the part numbers for the assembly (comprising the bearing and the link).

(i) For airplanes with thrust links for which the history of the part is available: Replace in accordance with Airbus Mandatory Service Bulletin A340-71-4006, Revision 01, dated May 14, 2009, prior to the accumulation of 15,500 total flight cycles on the part, or within 90 days from the effective date of the AD, whichever occurs later.

(ii) For airplanes with thrust links for which the part history is partial or unknown: Within 30 days after the effective date of this AD, calculate the limit for replacement in accordance with the calculation method provided in Airbus Mandatory Service Bulletin A340-71-4006, Revision 01, dated May 14, 2009, and replace the part no later than the calculated limit for replacement.

(2) Repeat the replacement required by paragraph (g)(1) of this AD at intervals not to exceed 15,500 flight cycles on the part in accordance with the Accomplishment Instructions of Airbus Mandatory Service Bulletin A340-71-4006, Revision 01, dated May 14, 2009.

FAA AD Differences

Note 2: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to Attn: Vladimir Ulyanov, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to ensure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to Mandatory Continuing Airworthiness Information (MCAI) European Aviation Safety Agency (EASA) Airworthiness Directive 2009-0115, dated May 29, 2009; and Airbus Mandatory Service Bulletin A340-71-4006, Revision 01, dated May 14, 2009; for related information.

Material Incorporated by Reference

(j) You must use Airbus Mandatory Service Bulletin A340-71-4006, Revision 01, dated May 14, 2009, to do the actions required by this AD, unless the AD specifies otherwise.

(1) The Director of the Federal Register previously approved the incorporation by reference of Airbus Mandatory Service Bulletin A340-71-4006, Revision 01, dated May 14, 2009, on January 29, 2010 (75 FR 2057, January 14, 2010).

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on May 3, 2010.
Ali Bahrami,
Manager, Transport Airplane Directorate, Aircraft Certification Service.

[FR Doc. 2010-11187 Filed 5-12-10; 8:45 am]

BILLING CODE 4910-13-P